DEPARTMENT OF AGRICULTURE

Commodity Credit Corporation

Tobacco Transition Payment Program—Successor-in-Interest Contracts

AGENCY: Commodity Credit Corporation, USDA.

ACTION: Notice and request for comments.

SUMMARY: This notice requests public comment on the documents to be used by the Commodity Credit Corporation (CCC) in the administration of the Tobacco Transition Payment Program (TTPP) with respect to successor-in-interest contracts, which allow a tobacco quota holder or a tobacco producer who is participating in this program to transfer their rights and obligations to a third-party.

DATES: CCC requests comments on any aspect of the documents, which are in the Appendix to this notice and at http://www.fsa.usda.gov/tobacco/. Comments must be received by July 11, 2005.

ADDRESSES: CCC invites interested persons to submit comments on these documents. The preferred manner to submit comments is by e-mail at: tob_comments@wdc.usda.gov. Comments may also be submitted by any of the following methods:

• Fax: Send to (202) 720-1288.

• Mail: Send to Director, Tobacco Division, Farm Service Agency, United States Department of Agriculture (USDA), STOP 0514, Room 4080-S, 1400 Independence Ave., SW., Washington, DC 20250-0514.

• Hand Delivery or Courier: Deliver to the above address.

All comments, including names and addresses, provided by respondents become a matter of public record. Comments may be inspected in the Office of the Director, Tobacco Division, FSA, at the above address. Make inspection arrangements by calling (202) 720-7413.

FOR FURTHER INFORMATION CONTACT: Joe Lewis, Tobacco Division (TD), Farm Service Agency, United States Department of Agriculture (USDA), STOP 0514, Room 4080-S, 1400 Independence Avenue, SW., Washington, DC 20250-0514. Phone: (202) 720-0795; e-mail: Joe_Lewis@wdc.usda.gov.

Persons with disabilities who require alternative means for communication (Braille, large print, audiotape, etc.) should contact the USDA Target Center at (202) 720-2600 (voice and TDD).

SUPPLEMENTARY INFORMATION: CCC is seeking comments on the forms relating to successor in interest contracts, consolidation of multiple contracts, and the process flow relating to these transactions.

An entity would submit to CCC form CCC-962, “Agreement to Purchase Tobacco Transition Payment Contract.” Required information includes the contract number associated with the transferor's original contract, the transferor's and the successor's names and addresses and the signatures of both parties. In addition, the value of consideration provided by the successor to the transferor and the date such consideration will be paid must be provided. This agreement, once submitted to CCC, is non-revocable. CCC will date and time stamp each form upon receipt and will honor only the first one received.

CCC will notify both parties as to the approval or disapproval of the succession. If approved, the transferor no longer has any right to receive payment from CCC under the TTPP contract that was transferred. The successor has all rights to such payment upon execution of form CCC-957, “Successor in Interest Contract for Quota Holders,” or form CCC-958, “Successor in Interest Contract for Tobacco Producers,” as applicable. This form is available at the FSA Web site or at USDA Service Centers. It will be the responsibility of the successor to submit a signed CCC-957 or CCC-958 to CCC.

Successors desiring to consolidate multiple contracts acquired from quota holders and producers must submit the “Appendix to the Tobacco Transition Payment Program Contract, Request for Payment Consolidation Contract”. The appendix allows 60 existing contract numbers to be consolidated; a continuation form will allow unlimited contracts to be consolidated. Quota holder contracts and producer contracts may not be consolidated on the same form. Upon CCC approval, a new contract number will be issued.

If a party succeeds to a tobacco producer contract, the party must certify on form AD-1026, “Highly Erodible Land Conservation (HELC) and Wetland Conservation (WC) Certification” to the understanding of the conservation compliance requirements under USDA programs. It is not necessary to complete this form if a previously filed AD-1026 is on file with USDA and there has not been a change in the farming operation or the persons affiliated with the operation from what was previously reported.

The successor must also complete a SF-1199A, “Direct Deposit Sign Up Form” to sign up for the direct deposit of benefits from USDA into the account of a payee.

Parties electing to appoint someone to act on their behalf as attorney-in-fact must complete the FSA-211, “Power of Attorney.” This form must have the signature witnessed by an FSA employee or notarized by a Notary Public. The completed original form must be submitted in hard copy to the appropriate FSA Service Center. FSA-211's received via facsimile will also be accepted.

Financial institutions and other similar entities must also provide documentation concerning who is authorized to sign for the entity. The following types of evidence are acceptable: Corporate charter, bylaws, articles of partnership, or a letter signed by the entity's officer designating individuals authorized to sign.

To facilitate and expedite the approval process, CCC intends to require financial institutions and other successors, other than individuals, to first submit certain information to: Tobacco Division, Farm Service Agency, United States Department of Agriculture (USDA), STOP 0514, Room 4080-S, 1400 Independence Ave., SW., Washington, DC 20250-0514. Successors will submit the information once to CCC and CCC will make the data available to the FSA Service Centers. Centralizing the procedure avoids the need for the financial institutions and other businesses to submit records to each FSA Service Center where they intend to conduct business. This information includes:

Name, address and tax identification number of the company;

Form AD-1026, “Highly Erodible Land Conservation (HELC) and Wetland Conservation (WC) Certification”, if applicable;

Form SF-1199A, “Direct Deposit Sign Up Form;”

Form FSA-211, “Power of Attorney”, if applicable;

The names and titles of persons eligible to sign for the business entity. CCC will post on the FSA Web site the names and address of the businesses that have submitted the required information.

Instructions on where to submit the following forms have not been finalized:

Form CCC-962, “Agreement to Purchase Tobacco Transition Payment Contract.”

Form CCC-957, “Successor in Interest Contract for Quota Holders,'

Form CCC-958, “Successor in Interest Contract for Tobacco Producers

“Appendix to the Tobacco Transition Payment Program Contract, Request for Payment Consolidation Contract.”

Comments on the forms relating to successor in interest contracts, consolidation of multiple contracts, and the process flow relating to these transactions must be received by July 11, 2005.

Signed in Washington, DC June 17, 2005.
Michael W. Yost,
Acting Executive Vice-President, Commodity Credit Corporation.

BILLING CODE 3410-05-P

[FR Doc. 05-12615 Filed 6-24-05; 8:45 am]

BILLING CODE 3410-05-C